GENERAL SERVICES ADMINISTRATION

[OMB Control No. 3090-0290; Docket No. 2019-0001; Sequence No. 15]

Information Collection; System for Award Management Registration Requirements for Financial Assistance Recipients

AGENCY: Office of Systems Management, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding the pre-award registration requirements for Prime Grant Recipients. The title of the approved information collection is System for Award Management Registration Requirements for Prime Grant Recipients (OMB Control Number 3090-0290). The updated information collection title is based on the Office of Management and Budget's (OMB) proposed expansion of SAM registration requirements to include all entities that receive financial assistance.

DATES: Submit comments on or before March 23, 2020.

ADDRESSES: Submit comments identified by “Information Collection 3090-0290, System for Award Management Registration Requirements for Financial Assistance Recipients” by any of the following methods:

• Regulations.gov: http://www.regulations.gov. Submit comments via the Federal eRulemaking portal by searching the OMB control number 3090-0290. Select the link “Comment Now” that corresponds with “Information Collection 3090-0290, System for Award Management Registration Requirements for Financial Assistance Recipients”. Follow the instructions provided on the screen. Please include your name, company name (if any), and “Information Collection 3090-0290, System for Award Management Registration Requirements for Financial Assistance Recipients” on your attached document.

• Mail: General Services Administration, Regulatory Secretariat Division (MVCB), 1800 F Street NW, Washington, DC 20405. ATTN: Ms. Mandell/IC 3090-0290.

Instructions: Please submit comments only and cite Information Collection 3090-0290, System for Award Management Registration Requirements for Financial Assistance Recipients, in all correspondence related to this collection. Comments received generally will be posted without change to regulations.gov, including any personal and/or business confidential information provided. To confirm receipt of your comment(s), please check regulations.gov, approximately two to three days after submission to verify posting (except allow 30 days for posting of comments submitted by mail).

FOR FURTHER INFORMATION CONTACT: Ms. Nancy Goode, Program Manager, IAE Outreach and Stakeholder Engagement Division, at telephone number 703-605-2175; or via email at nancy.goode@gsa.gov.

SUPPLEMENTARY INFORMATION:

A. Purpose

This information collection requires information necessary for prime applicants and recipients, excepting individuals, of Federal financial assistance to register in the System for Award Management (SAM) and maintain an active SAM registration with current information at all times during which they have an active Federal award or an application or plan under consideration by an agency pursuant to 2CFR Subtitle A, Chapter I, and Part 25 (75 FR 5672). This facilitates prime awardee reporting of sub-award and executive compensation data pursuant to the Federal Funding Accountability and Transparency Act (Pub. L. 109-282, as amended by section 6202(a) of Pub. L. 110-252). This information collection requires that all prime financial assistance awardees, subject to reporting under the Transparency Act register and maintain their registration in SAM.

This information collection is being amended to meet a statutory requirement of the National Defense Authorization Act (NDAA) of FY 2013. The NADA of 2013 requires that the Federal Awardee Performance and Integrity Information System (FAPIIS)(currently located in SAM) include information on a non-Federal entity's parent, subsidiary, or successor entities. Applicants will need to provide information in SAM on their immediate and highest level owner as well as predecessors that have been awarded a Federal contract, grant, or cooperative agreement within the last three years. Additionally, the information collection is being amended to increase transparency regarding Federal spending and to support implementation of the Digital Accountability and Transparency Act of 2014 (DATA ACT).

OMB proposes to expand the requirement to register in SAM beyond grants, cooperative agreements, and contracts, to entities that receive financial assistance such as loans, insurance, and direct appropriations. This information collection requirement is included in OMB's proposed revision to guidance in 2CFR Subtitle A, Chapter I, and Parts 25, 170, and 200.

B. Annual Reporting Burden

Respondents: 172,084.

Responses per Respondent: 1.

Total annual responses: 172,084.

Hours per Response: 2.5.

Total Burden Hours: 430,210.

C. Public Comments

Public comments are particularly invited on: Whether this collection of information is necessary for the proper performance of functions of the System for Award Management Registration Requirements for Financial Assistance Recipients, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW, Washington, DC 20405, telephone 202-501-4755. Please cite OMB Control No. 3090-0290, System for Award Management Registration Requirements for Financial Assistance Recipients, in all correspondence.

Dated: December 27,2019.
David A. Shive,
Chief Information Officer.

[FR Doc. 2019-28347 Filed 1-21-20; 8:45 am]

BILLING CODE 6820-WY-P